DEPARTMENT OF LABOR

Mine Safety and Health Administration (MSHA)

30 CFR Part 3

Office of Management and Budget Control Numbers Under the Paperwork Reduction Act

AGENCY: Mine Safety and Health Administration, Labor.

ACTION: Final rule.

SUMMARY: MSHA (we) are revising section 3.1 of part 3 of our regulations in order to update the display of Office of Management and Budget (OMB) control numbers approved under the Paperwork Reduction Act of 1995 (PRA 95). The display references regulations promulgated under the Federal Mine Safety and Health Act of 1977 containing recordkeeping and reporting requirements along with their associated OMB control numbers. This revision will assist the public search for current information on recordkeeping and reporting requirements approved by OMB.

EFFECTIVE DATE: June 30, 2000.

FOR FURTHER INFORMATION CONTACT: Carol J. Jones, Director; Office of Standards, Regulations, and Variances, MSHA; 703-235-1910.

SUPPLEMENTARY INFORMATION: We published a final rule presenting the OMB control numbers in a new table format which was codified in 30 CFR Part 3 on June 29, 1995 (60 FR 33719). This fulfilled the requirements of 44 U.S.C. 3507(f) of PRA 95 which prohibits an agency from engaging in a collection of information without displaying the control number obtained from OMB. Under PRA 95, no person is required to respond to a collection of information unless a valid OMB control number is displayed.

We are now publishing a revision to update our current display of control numbers issued by OMB for information collection. This includes the addition of control numbers approved by OMB in regulations completed through the rulemaking process since publication of part 3 on June 29, 1995 (60 FR 33719). There are no substantive changes or renewals made to information collection requirements by this technical amendment. Information collection requirements go through the public review process as part of the rule to which they apply. Likewise, the renewal of an OMB control number also requires public review. As a result, we find that there is “good cause” under 5 U.S.C., 553 (b)(3)(B) of the Administrative Procedure Act (APA) to issue this technical amendment to Table 1 in 30 Part 3 without prior public notice and comment.

We have also determined there is no need to delay the effective date because the technical amendment contains no new requirements for which the public would need time to plan compliance beyond that provided for in the regulation itself. We find, therefore, there is “good cause” to except this action from the 30-day delayed effective date requirement under 5 U.S.C. 553(b)(B) of the Administrative Procedure Act (APA).

List of Subjects in 30 CFR Part 3

Reporting and recordkeeping requirements.

J. Davitt McAteer,
Assistant Secretary for Mine Safety and Health.

Accordingly, under the authority of 30 U.S.C. 957, chapter I of title 30, Code of Federal Regulations is amended as set forth below.

PART 3—OMB CONTROL NUMBERS UNDER THE PAPERWORK REDUCTION ACT

1. The authority for part 3 continues to read as follows:

Authority: 30 U.S.C. 957; 44 U.S.C. 3501-3520.

2. Amend § 3.1 by revising Table 1 to read as follows:

§ 3.1 OMB control numbers.

* * * * *

Table 1.—OMB Control Numbers
30 CFR citation | OMB control no.
Subchapter B—Testing, Evaluation, and Approval of Mining Products
7.3 | 1219-0100
7.4 | 1219-0100
7.6 | 1219-0100
7.7 | 1219-0100
7.23 | 1219-0100
7.27 | 1219-0100
7.28 | 1219-0100
7.43 | 1219-0100
7.46 | 1219-0100
7.47 | 1219-0100
7.48 | 1219-0100
7.51 | 1219-0100
7.63 | 1219-0100
7.66 | 1219-0100
7.67 | 1219-0100
7.68 | 1219-0100
7.69 | 1219-0100
7.71 | 1219-0100
7.83 | 1219-0119
7.90 | 1219-0119
7.97 | 1219-0119
7.105 | 1219-0119
7.303 | 1219-0100
7.306 | 1219-0100
7.307 | 1219-0100
7.308 | 1219-0100
7.309 | 1219-0100
7.311 | 1219-0100
7.363 | 1219-0119
7.371(r), (kk), (ll), (mm), (nn), (oo), (pp) | 1219-0119
7.403 | 1219-0100
7.407 | 1219-0100
7.408 | 1219-0100
15.4 | 1219-0066
15.8 | 1219-0066
15.10 | 1219-0066
18.6 | 1219-0066
18.15 | 1219-0066
18.81 | 1219-0066
18.82 | 1219-0066
18.93 | 1219-0066
18.94 | 1219-0066
19.3 | 1219-0066
19.13 | 1219-0066
20.3 | 1219-0066
20.14 | 1219-0066
21.4 | 1219-0066
21.10 | 1219-0066
22.4 | 1219-0066
22.11 | 1219-0066
23.3 | 1219-0066
23.14 | 1219-0066
24.2 | 1219-0066
24.9 | 1219-0066
26.8 | 1219-0066
26.19 | 1219-0066
27.4 | 1219-0066
27.6 | 1219-0066
27.11 | 1219-0066
28.10 | 1219-0066
28.25 | 1219-0066
28.30 | 1219-0066
28.31 | 1219-0066
29.10 | 1219-0066
29.11 | 1219-0066
29.12 | 1219-0066
29.33 | 1219-0066
29.35 | 1219-0066
29.40 | 1219-0066
29.41 | 1219-0066
29.43 | 1219-0066
29.54 | 1219-0066
29.56 | 1219-0066
33.6 | 1219-0066
33.12 | 1219-0066
35.6 | 1219-0066
35.12 | 1219-0066
36.6 | 1219-0066
36.12 | 1219-0066
Subchapter G—Filing and Other Administrative Requirements
40.3 | 1219-0042
40.4 | 1219-0042
40.5(a) | 1219-0042
41.10 | 1219-0008
41.11 | 1219-0008
41.12 | 1219-0008
41.20 | 1219-0008
43.2 | 1219-0014
43.4 | 1219-0014
43.7 | 1219-0014
43.8 | 1219-0014
44.9 | 1219-0065
44.10 | 1219-0065
44.11 | 1219-0065
45.3 | 1219-0043
45.4 | 1219-0040
46.3 | 1219-0131
46.5 | 1219-0131
46.6 | 1219-0131
46.7 | 1219-0131
46.8 | 1219-0131
46.9 | 1219-0131
46.11 | 1219-0131
48.3 | 1219-0009
48.23 | 1219-0009
48.9 | 1219-0070
48.29 | 1219-0070
49.2 | 1219-0078
49.3 | 1219-0078
49.4 | 1219-0078
49.6(b) | 1219-0078
49.7 | 1219-0078, 0049
49.8 | 1219-0078
49.9 | 1219-0078
Subchapter M—Accidents, Injuries, Illnesses, Employment, and Production in Mines
50.10 | 1219-0007
50.11 | 1219-0007
50.20 | 1219-0007
50.30 | 1219-0006
Subchapter N—Metal and Nonmetal Mine Safety and Health
56.1000 | 1219-0092
56.3203(a) | 1219-0121
56.5005 | 1219-0048
56.13015 | 1219-0089
56.13030 | 1219-0089
56.14100 | 1219-0089
56.18002 | 1219-0089
56.19022 | 1219-0034
56.19023(a), (c), (d), (e) | 1219-0034
56.19057 | 1219-0049
56.19121 | 1219-0034
56.19129 | 1219-0034
56.19131 | 1219-0034
56.19132 | 1219-0034
56.19133 | 1219-0034
56.19134 | 1219-0034
57.1000 | 1219-0092
57.3203(a) | 1219-0121
57.3461 | 1219-0097
57.5005 | 1219-0048
57.5037 | 1219-0003
57.5040 | 1219-0003
57.5047 | 1219-0039
57.8520 | 1219-0016
57.8525 | 1219-0012
57.11053 | 1219-0046
57.13015 | 1219-0089
57.13030 | 1219-0089
57.14100 | 1219-0089
57.18002 | 1219-0089
57.19022 | 1219-0034
57.19023(a), (c), (d), (e) | 1219-0034
57.19057 | 1219-0049
57.19121 | 1219-0034
57.19129 | 1219-0034
57.19131 | 1219-0034
57.19132 | 1219-0034
57.19133 | 1219-0034
57.19134 | 1219-0034
57.22004(c) | 1219-0103
57.22204 | 1219-0030
57.22229 | 1219-0103
57.22230 | 1219-0103
57.22231 | 1219-0103
57.22239 | 1219-0103
57.22401 | 1219-0096
57.22606 | 1219-0095
62.120(g) | 1219-0122
Subchapter O—Coal Mine Safety and Health
70.201(c) | 1219-0011
70.202(b) | 1219-0011
70.204 | 1219-0128
70.209 | 1219-0011
70.220(a) | 1219-0011
70.500 | 1219-0120
70.504-1 | 1219-0001, 0120
70.504-2 | 1219-0001, 0120
70.506 | 1219-0037, 0120
70.507 | 1219-0037, 0120
70.508 | 1219-0037, 0120
70.509 | 1219-0037, 0120
70.510 | 1219-0017, 0120
70.511 | 1219-0120
71.201(c) | 1219-0011
71.202(b) | 1219-0011
71.204 | 1219-0128
71.209 | 1219-0011
71.220(a) | 1219-0011
71.300 | 1219-0011
71.301(d) | 1219-0011
171.403 | 1219-0024
71.404 | 1219-0024
71.500 | 1219-0101
71.800 | 1219-0120
71.801 | 1219-0001, 0037
71.802 | 1219-0037
71.803(a), (b) | 1219-0037
71.804(a) | 1219-0037
71.805 | 1219-0120
72.510(a), (b) | 1219-0124
75.100 | 1219-0069
75.153(a)(2) | 1219-0001
75.155 | 1219-0069, 0127
75.159 | 1219-0127
75.160 | 1219-0127
75.161 | 1219-0127
75.204(a) | 1219-0121
75.215 | 1219-0004
75.220 | 1219-0004
75.221 | 1219-0004
75.222 | 1219-0004
75.223(c). | 1219-0004
75.310 | 1219-0088
75.312 | 1219-0088
75.342(a)(4) | 1219-0088, 0067
75.351(f),(h) | 1219-0088, 0067
75.360 | 1219-0088
75.360(a) (1), (f) | 1219-0125
75.361 | 1219-0088
75.362 | 1219-0088
75.363 | 1219-0088, 0119
75.364 | 1219-0088
75.370(a), (f) | 1219-0088, 0124
75.371(gg) | 1219-0124
75.373 | 1219-0073
75.382 | 1219-0088
75.512 | 1219-0067
75.703-3(d) (11) | 1219-0067
75.800-4 | 1219-0067
75.900-4 | 1219-0067
75.1001-1(c) | 1219-0067
75.1100-3 | 1219-0054
75.1101-23(a) | 1219-0054
75.1101-23(c) | 1219-0054
75.1103-8 | 1219-0054
75.1103-11 | 1219-0054
75.1200 | 1219-0073
75.1200-1 | 1219-0073
75.1201 | 1219-0073
75.1202 | 1219-0073
75.1202-1 | 1219-0073
75.1203 | 1219-0073
75.1204 | 1219-0073
75.1204-1 | 1219-0073
75.1321 | 1219-0025
75.1327 | 1219-0025
75.1400-2 | 1219-0034
75.1400-4 | 1219-0034
75.1432 | 1219-0034
75.1433(d), (e) | 1219-0034
75.1702 | 1219-0041
75.1712-4 | 1219-0024
75.1712-5 | 1219-0024
75.1712-6 | 1219-0101
75.1713-1(a), (b), (e) | 1219-0078
75.1714-3(e) | 1219-0044
75.1716 | 1219-0020
75.1716-1 | 1219-0020
75.1716-3 | 1219-0020
75.1721 | 1219-0073
75.1901-(a) | 1219-0119
75.1904(b) (4) (i) | 1219-0119
75.1911(i) (j) | 1219-0119
75.1912(h) (i) | 1219-0119
75.1914(f)(1), (2); (g)(5); (h)(1), (2) | 1219-0119
75.1915(a), (c) | 1219-0119, 0124
77.100 | 1219-0069
77.103(a) (2) | 1219-0001
77.105 | 1219-0069, 0127
77.106 | 1219-0127
77.107 | 0127
77.107-1 | 0127
77.215 | 1219-0015
77.215-2 | 1219-0015
77.215-3 | 1219-0015
77.215-4 | 1219-0015
77.216-2 | 1219-0015
77.216-3 | 1219-0015
77.216-4 | 1219-0015
77.216-5 | 1219-0015
77.502 | 1219-0067
77.800-2 | 1219-0067
77.900-2 | 1219-0067
77.1000 | 1219-0026
77.1000-1 | 1219-0026
77.1101 | 1219-0051
77.1200 | 1219-0073
77.1201 | 1219-0073
77.1202 | 1219-0073
77.1404 | 1219-0034
77.1432 | 1219-0034
77.1433(d), (e) | 1219-0034
77.1702(a), (b), (e) | 1219-0078
77.1713 | 1219-0083
77.1900 | 1219-0019
77.1901 | 1219-0082
77.1906 | 1219-0034
77.1909-1 | 1219-0025
90.201(c) | 1219-0011
90.202(b) | 1219-0011
90.204 | 1219-0128
90.209 | 1219-0011
90.220(a) | 1219-0011
90.300 | 1219-0011
90.301(d) | 1219-0011

[FR Doc. 00-16528 Filed 6-29-00; 8:45 am]

BILLING CODE 4510-43-P